SMALL BUSINESS ADMINISTRATION

Region IV Advisory Council Meeting; Public Meeting

The Georgia District Advisory Council, Regulatory Fairness Board will hold a public hearing on September 15, 2000, at 9 am located at the Georgia District Office Conference Room, at 233 Peachtree Street, NE Suite 1900, Atlanta, Georgia to receive comments and testimony from small businesses and representatives of trade associations concerning federal regulatory enforcement or compliance activities. These transcripts are subject only to limited review by the National Ombudsman.

For further information, call Charles E. Anderson, District Director, U.S. Small Business Administration at (404) 331-0266.

Bettie Baca,
Counselor to the Administrator/Public Liaison.

[FR Doc. 00-20390 Filed 8-10-00; 8:45 am]

BILLING CODE 8025-01-P